DEPARTMENT OF JUSTICE

Notice of Lodging of Proposed Consent Decree Under the Oil Pollution Act

On August 11, 2015, the Department of Justice lodged a proposed Consent Decree with the United States District Court for the Western District of Texas in the lawsuit entitled United States and the State of Texas v. Koch Pipeline Company, L.P., Civil Action No. SA-15-CV-676.

In this action, the United States and the State of Texas, pursuant to Section 1002 of the Oil Pollution Act of 1990, seek natural resource damages, including past and future administrative and assessment costs, arising out of the unauthorized discharge of crude oil into Marcelinas Creek, a navigable water of the United States and the State of Texas, from Defendant's former crude oil receiving station in Karnes County, Texas, on October 18, 1998.

The proposed Consent Decree requires Defendant to pay the sum of $770,000, an amount which will: (1) Fund the restoration option selected by the federal and state trustees, (2) reimburse the trustees for their past assessment costs, and (3) provide for future administrative and assessment costs associated with implementation of the restoration plan. The United States and the State of Texas provide covenants not to sue Defendant pursuant to the Oil Pollution Act, 33 U.S.C. 2701 et seq., and the Clean Water Act, 33 U.S.C. 1251 et seq., for natural resource damages resulting from the spill.

The publication of this notice opens a period for public comment on the Consent Decree. Comments should be addressed to the Assistant Attorney General, Environment and Natural Resources Division, and should refer to United States and the State of Texas v. Koch Pipeline Company, L.P., D.J. Ref. No. 90-5-1-1-10848. All comments must be submitted no later than thirty (30) days after the publication date of this notice. Comments may be submitted either by email or by first class mail:

To submit comments: | Send them to:
By email | pubcomment-ees.enrd@usdoj.gov.
By first class mail | Assistant Attorney General, U.S. DOJ—ENRD, P.O. Box 7611, Washington, DC 20044-7611.

During the public comment period, the Consent Decree may be examined and downloaded at this Justice Department Web site: http://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $5.00 (25 cents per page reproduction cost) payable to the United States Treasury.

Thomas P. Carroll,
Assistant Section Chief, Environmental Enforcement Section, Environment and Natural Resources Division.

[FR Doc. 2015-20215 Filed 8-14-15; 8:45 am]

BILLING CODE 4410-15-P